DEPARTMENT OF COMMERCE

National Oceanic and Atmospheric Administration

[I.D. 030100A]

Southwest Region Family of Permit Forms; Proposed Information Collection; Request for Comments

AGENCY: National Marine Fisheries Service (NMFS), National Oceanic and Atmospheric Administration (NOAA), Commerce.

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 5, 2000.

ADDRESSES: Direct all written comments to Linda Engelmeier, Departmental Forms Clearance Officer, Department of Commerce, Room 5027, 14th and Constitution Avenue NW, Washington DC 20230 (or via Internet at LEngelme@doc.gov).

FOR FURTHER INFORMATION CONTACT: Requests for additional information or copies of the information collection instrument(s) and instructions should be directed to Mr. Alvin Katekaru, NMFS Pacific Islands Area Office, 1601 Kapiolani Blvd., Suite 1110, Honolulu, HI 96814, telephone 808-973-2937; or Jim Morgan, Long Beach Office, Southwest Region, NMFS, 501 W. Ocean Blvd., Suite 4200, Long Beach, CA 908022, (562) 980-4036.

SUPPLEMENTARY INFORMATION:

I. Abstract

Federal permits are required for four fisheries (pelagics, crustaceans, bottomfish, and precious corals) in the western Pacific region and for the coastal pelagics species fisheries off the West Coast. All these fisheries are managed under the Magnuson-Stevens Fishery Conservation and Management Act. This information collection covers the information that must be provided to NMFS to obtain or renew a permit for any of those fisheries. Three types of permits are issued: open access, limited access, and experimental fishing. There are four limited entry fisheries: Northwestern Hawaiian Islands (NWHI) bottomfish (Hoomalu Zone and Mau Zone), NWHI crustaceans, and Hawaii longline. The open access fisheries for which NMFS permits are required are western Pacific longline other than Hawaii; crustacean fisheries off the main Hawaiian Islands, American Samoa, and Guam; and western Pacific precious corals fisheries. Experimental fishing permits may be issued in any fishery to allow the harvest of managed species that would otherwise be prohibited by Federal regulations.

The information from this collection generally serves to identify actual or potential participants in the fisheries, determine eligibility for limited access permits, and help measure the impacts of management controls on the participants in the fisheries.

II. Method of Collection

Typically, in the western Pacific, a permit applicant files an OMB-approved application form and, if applicable, a supplemental information sheet that collects basic information on the owner of the fishing vessel, the operator, and the vessel itself. Expiration of the permits is not uniform. Some permits expire annually, others are on a two-year cycle, and still others expire every 5 years. The crustacean limited entry permits have no expiration date and become invalid when they are transferred to another owner through established permit procedures.

The coastal pelagics fishery permit is a new requirement implemented in January 2000. Permits are valid indefinitely until either the holder transfers the permit or surrenders it.

III. Data

OMB Number: 0648-0204.

Form Number: None.

Type of Review: Regular submission.

Affected Public: Business or other for-profit organizations.

Estimated Number of Respondents: 230.

Estimated Time Per Response: In the coastal pelagic fishery, 30 minutes for a permit or permit transfer application, 1 hour for additional information that may be required to support a permit request, and 2 hours for an appeal of a permit denial; in the bottomfish fishery, 45 minutes for a Mau Zone limited access permit application, 2 hours for a Ho'omalu Zone limited access permit application, 1 hour for a Ho'omalu Zone limited access permit renewal application, 2 hours for an appeal of a permit denial, and 1 hour for a Mau Zone exemption request; in the longline fishery, 30 minutes for general permit applications or limited entry permit transfer requests, 2 hours for an appeal of a permit action, and 2 hours for a closed area exemption request; in the crustacean fishery, 30 minutes for any limited entry permit action; in the precious coral fishery, 30 minutes for a permit application; and 2 hours for any experimental fishing permit application.

Estimated Total Annual Burden Hours: 119.

Estimated Total Annual Cost to Public: $1,000.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and /or included in the request for OMB approval of this information collection; they also will become a matter of public record.

Dated: February 29, 2000.
Linda Engelmeier,
Departmental Forms Clearance Officer, Office of the Chief Information Officer.

[FR Doc. 00-5363 Filed 3-3-00; 8:45 am]

BILLING CODE 3510-22-F